DEPARTMENT OF AGRICULTURE

Forest Service

Information Collection; Reinstatement, Without Change, of Previously Approved information Collection That Has Expired for Stewardship Incentive Program

AGENCY: Forest Service, USDA.

ACTION: Notice; request for comment.

SUMMARY: In accordance with the Paperwork Reduction Act of 1995, the Forest Service is seeking comments from all interested individuals and organizations on the reinstatement, without change, of a previously approved, but now expired, information collection required for participation of non-industrial private forest owners in the State and Private Forestry Stewardship Incentive Program. The collected information identifies (1) the Stewardship Incentive Program assignment of payment, (2) Internal Revenue Service income reporting requirements for participants, and (3) the participants' delegated power of attorney.

DATES: Comments must be received in writing on or before February 14, 2003.

ADDRESSES: Written comments concerning this notice should be addressed to Forest Service, USDA, Attn: Stewardship Coordinator, Cooperative Forestry Staff, Mail Stop 1123, 1400 Independence Avenue, SW., Washington, DC 20250-1123. Comments may also be sent via email to hbrockman@fs.fed.us, or via facsimile to (202) 205-1271.

The public may inspect comments received at the offices of the Cooperative Forestry Staff, Sidney Yates Building, 4th Floor SE, 201 14th Street, SW., Washington, DC 20250, during normal business hours. Visitors are encouraged to call ahead to (202) 205-1694 to facilitate entry to the building.

FOR FURTHER INFORMATION CONTACT: Hal Brockman, Cooperative Forestry Staff, (202) 205-1694; or Susan Stein, Cooperative Forestry Staff, (202) 205-0837.

Individuals who use telecommunication devices for the deaf (TDD) may call the Federal Information Relay Service (FIRS) at 800-877-8339 between 8 a.m. and 8 p.m., Eastern Standard Time, Monday through Friday.

SUPPLEMENTARY INFORMATION: The Forest Service is seeking a reinstatement, without change, of a previously approved, but now expired, information collection authorized under Office of Management and Budget (OMB) Control Number 0596-0120 and required for participation of non-industrial private forest owners in the State and Private Forestry Stewardship Incentive Program. Several Forest Service information collection forms are approved under this authorization number: Stewardship Incentive Program (SIP)-36, Assignment of Payment; SIP-211, Power of Attorney; SIP-211-1, Power of Attorney for Husband and Wife; and SIP-502, Payment Limitation Review. The collected information is used to facilitate the participation of non-industrial private forest owners in the State and Private Forestry Stewardship Incentive Program.

An additional form, AD-245, SIP Request for Cost-Shares, also is used when applying for cost-share funds. A request for extension of approval for this information collection is being requested by the Farm Service Agency(OMB 0560-0082), which works cooperatively with the Forest Service to administer the Stewardship Incentive Program.

Data gathered in this information collection are not available from other sources.

Description of Information Collection

The following describes the information collection to be reinstated:

Title: SIP-36, Assignment of Payment.

OMB Number: 0596-0120.

Expiration Date of Approval: July 31, 2002.

Type of request: Reinstatement of a previously approved information collection that has expired.

Abstract: The non-industrial private forest landowner completes SIP-36 to assign a cost-share payment to a third party. The information requested includes the payment amount assigned and the names, addresses, and signatures of assignor and assignee.

Estimate of Annual Burden: 10 minutes.

Types of Respondents: Non-industrial private forest owners.

Estimated Annual Number of Respondents: 1,000.

Estimated Annual Number of Responses per Respondent: 1 per form.

Estimated Total Annual Burden on Respondents: 167 hours.

Description of Information Collection

The following describes the information collection to be reinstated:

Title: SIP-211, Power of Attorney.

OMB Number: 0596-0120.

Expiration Date of Approval: July 31, 2002.

Type of request: Reinstatement of a previously approved information collection that has expired.

Abstract: The non-industrial private forest landowner completes SIP-211 to appoint power of attorney for the landowner. The landowner indicates in this form whether power of attorney is being granted for (1) all actions; (2) the signing of an application; (3) the receiving of payments; (4) pledge of agreements; (5) the making of reports; or (6) other. It is signed by the landowner and witnesses.

Estimate of Annual Burden: 5 minutes.

Types of Respondents: Non-industrial private forest owners.

Estimated Annual Number of Respondents: 1,000.

Estimated Annual Number of Responses per Respondent: 1 per form.

Estimated Total Annual Burden on Respondents: 83 hours.

Description of Information Collection

The following describes the information collection to be reinstated:

Title: SIP-211-1, Power of Attorney for Husband and Wife.

OMB Number: 0596-0120.

Expiration Date of Approval: July 31, 2002.

Type of request: Reinstatement of a previously approved information collection that has expired.

Abstract: Participants who are husband and wife and who wish to assign each other power of attorney complete Form SIP-211-1. It requires the husband and wife to print and sign their names on the form.

Estimate of Annual Burden: 5 minutes.

Types of Respondents: Non-industrial private forest owners.

Estimated Annual Number of Respondents: 1,000.

Estimated Annual Number of Responses per Respondent: 1 per form.

Estimated Total Annual Burden on Respondents: 83 hours.

Description of Information Collection

The following describes the information collection to be reinstated:

Title: SIP-502, Payment Limitation Review.

OMB Number: 0596-0120.

Expiration Date of Approval: July 31, 2002.

Type of request: Reinstatement of a previously approved information collection that has expired.

Abstract: To ensure they have not exceeded the cost-share payment limit for a fiscal year and also to meet Internal Revenue Service income reporting requirements, non-industrial private forest owners complete SIP-502. A landowner is not allowed to receive more than $10,000 in SIP cost-share payments in a single fiscal year. Program participants provide their name and address, entity identification number, and date entity formed. They also check off the type of entity (e.g., individual, irrevocable trust, revocable trust, corporation, limited partnership, general partnership, joint venture, estate, or other). Participants also list all stockholders, members, heirs, or beneficiaries having an interest in the entity.

Estimate of Annual Burden: 25 minutes.

Types of Respondents: Non-industrial private forest owners.

Estimated Annual Number of Respondents: 1,000.

Estimated Annual Number of Responses per Respondent: 1 per form.

Estimated Total Annual Burden on Respondents: 417 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including name and address when provided, will become a matter of public record. Comments received in response to this notice will be summarized and included in the request for Office of Management and Budget approval.

Dated: December 4, 2002.
Joel D. Holtrop,
Deputy Chief, State and Private Forestry.

[FR Doc. 02-31571 Filed 12-13-02; 8:45 am]

BILLING CODE 3410-11-P